DEPARTMENT OF THE TREASURY

Privacy Act of 1974, as Amended; System of Records Notice

AGENCY: Department of the Treasury

ACTION: Notice of proposed alteration of a Privacy Act system of records.

SUMMARY: In accordance with the requirements of the Privacy Act of 1974, as amended, 5 U.S.C. 552a, the Department of the Treasury, gives notice of proposed alteration of a system of records entitled “Treasury .016—Reasonable Accommodations Records.”

DATES: Comments must be received no later than March 26, 2015. The proposed altered system will become effective April 6, 2015, unless the Department of the Treasury receives comments which cause reconsideration of this action.

ADDRESSES: You may submit comments, identified by one of the following methods:

• Fax: 202-622-3895.

• Mail: Helen Goff Foster, Deputy Assistant Secretary for Privacy, Transparency, and Records, Office of Privacy, Transparency, and Records, Department of the Treasury, 1500 Pennsylvania Avenue NW., Washington, DC 20220.

Instructions: All submissions received must include the agency name for this rulemaking. All comments received will be posted without change to http://www.regulations.gov, including any personal information provided. For access to read background documents or comments received go to http://www.regulations.gov, including any personal information provided.

FOR FURTHER INFORMATION CONTACT: For general questions and for privacy issues please contact: Helen Goff Foster (202-622-0790), Deputy Assistant Secretary for Privacy, Transparency, and Records, Office of Privacy, Transparency, and Records, Department of the Treasury, 1500 Pennsylvania Ave. NW., Washington, DC 20220.

SUPPLEMENTARY INFORMATION: The Department of the Treasury is proposing to alter this Privacy Act system of records to authorize the routine use of this information in non-federal administrative proceedings specifically, state unemployment compensation award appeals—and requests for leave under the Family and Medical Leave Act of 1993.

A notice describing this system of records was most recently published at 79 FR 23405, April 28, 2014. Treasury proposes to alter the system to include the collection of this data within the Categories of individuals covered by the system, and Routine uses of records maintained in the system, including categories of users and the purposes of such uses.

This system will be included in the Department of the Treasury's inventory of record systems.

Helen Goff Foster,
Deputy Assistant Secretary for Privacy, Transparency, and Records.

TREASURY .016

System name:

Reasonable Accommodations Records

* * * * *

Categories of individuals covered by the system:

Currently reads:

Categories of individuals covered by this system include applicants for employment and employees who request or receive reasonable accommodations under the Rehabilitation Act of 1973 or ADAAA. This also includes participants in Treasury programs and activities, visitors at Treasury facilities, authorized individuals or representatives (e.g., family member or attorney) who request a reasonable accommodation on behalf of an applicant for employment or employee, as well as former employees and members of the public who request or receive a reasonable accommodation during their employment with Treasury or when visiting a Treasury facility.

Categories of individuals covered by the system:

New:

Categories of individuals covered by this system include applicants for employment and employees who request or receive reasonable accommodations under the Rehabilitation Act of 1973 or ADAAA, or leave under the Family and Medical Leave Act of 1993 (FMLA). This also includes participants in Treasury programs and activities, visitors at Treasury facilities, authorized individuals or representatives (e.g., family member or attorney) who request a reasonable accommodation on behalf of an applicant for employment or employee, as well as former employees and members of the public who request or receive a reasonable accommodation or leave under the FMLA during their employment with Treasury or when visiting a Treasury facility.

* * * * *

Routine uses of records maintained in the system, including categories of users and the purposes of such uses:

* * * * *

Routine Use B currently reads: B. To another federal agency, a court, or a party in litigation before a court or in an administrative proceeding being conducted by a federal agency when the Government is a party to the judicial or administrative proceeding;

New Routine B: B. To another federal agency, a state or local agency, a court, or a party in litigation before a court or in an administrative proceeding being conducted by a federal or state or local agency when the Government is a party to the judicial or administrative proceeding;

* * * * *

[FR Doc. 2015-03641 Filed 2-23-15; 8:45 am]

BILLING CODE 4810-25-P